DEPARTMENT OF COMMERCE

National Oceanic and Atmospheric Administration

[RTID 0648-XQ008]

Spring Meeting of the Advisory Committee to the United States Delegation to the International Commission for the Conservation of Atlantic Tunas

AGENCY: National Marine Fisheries Service (NMFS), National Oceanic and Atmospheric Administration (NOAA), Commerce.

ACTION: Notice of Advisory Committee meeting.

SUMMARY: The Advisory Committee (Committee) to the U.S. Section to the International Commission for the Conservation of Atlantic Tunas (ICCAT) announces its annual spring meeting to be held March 10-11, 2020.

DATES: The open sessions of the Committee meeting will be held on March 10, 2020, 9 a.m. to 3:15 p.m. and March 11, 2020, 9 a.m. to 1 p.m. Closed sessions will be held on March 10, 2020, 3:30 p.m. to 5:30 p.m., and on March 11, 2020, 8 a.m. to 9 a.m.

ADDRESSES: The meeting will be held at the Embassy Suites by Hilton Miami International Airport, 3974 NW South River Drive, Miami, Florida, 33142.

FOR FURTHER INFORMATION CONTACT: Terra Lederhouse at (301) 427-8360.

SUPPLEMENTARY INFORMATION: The Advisory Committee to the U.S. Section to ICCAT will meet in open session to receive and discuss information on management strategy evaluation and harvest control rule development at ICCAT; the 2019 ICCAT meeting results and U.S. implementation of ICCAT decisions; NMFS research and monitoring activities; global and domestic initiatives related to ICCAT; the results of the meetings of the Committee's Species Working Groups; and other matters relating to the international management of ICCAT species. The public will have access to the open sessions of the meeting, but there will be no opportunity for public comment. The agenda is available from the Committee's Executive Secretary upon request (see FOR FURTHER INFORMATION CONTACT).

The Committee will meet in its Species Working Groups for part of the afternoon of March 10, 2020, and for one hour on the morning of March 11, 2020. These sessions are not open to the public, but the results of the Species Working Group discussions will be reported to the full Advisory Committee during the Committee's open session on March 11, 2020.

Special Accommodations

The meeting location is physically accessible to people with disabilities. Requests for sign language interpretation or other auxiliary aids should be directed to Terra Lederhouse at (301) 427-8360 at least 5 days prior to the meeting date.

Dated: February 19, 2020.
Alexa Cole,
Director, Office of International Affairs and Seafood Inspection, National Marine Fisheries Service.

[FR Doc. 2020-03730 Filed 2-24-20; 8:45 am]

BILLING CODE 3510-22-P